DEPARTMENT OF VETERANS AFFAIRS

[OMB Control No. 2900-0859]

Agency Information Collection Activity Under OMB Review: Education Benefit Entitlement Restoration Request Due to School Closure, Program Suspension or Withdrawal

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0859.”

FOR FURTHER INFORMATION CONTACT: Maribel Aponte, Office of Enterprise and Integration, Data Governance Analytics (008), 810 Vermont Ave. NW, Washington, DC 20420, (202) 266-4688 or email Maribel.aponte@va.gov. Please refer to “OMB Control No. 2900-0859” in any correspondence.

SUPPLEMENTARY INFORMATION:

Authority: Public Law 115-48; title 38 U.S.C. 3699.

Title: Education Benefit Entitlement Restoration Request Due to School Closure, Program Suspension or Withdrawal, VA Form 22-0989.

OMB Control Number: 2900-0859.

Type of Review: Revision of a currently approved collection.

Abstract: The VA Form 22-0989 allows students to apply for restoration of entitlement for VA education benefits used at a school that closed, suspended, or had its approval to receive VA benefits withdrawn.

An agency may not conduct or sponsor, and a person is not required to respond to a collection of information unless it displays a currently valid OMB control number. The Federal Register Notice with a 60-day comment period soliciting comments on this collection of information was published at 89 FR 12420 on Friday, February 16, 2024, Pages 12420-12421.

Affected Public: Individuals and households.

Estimated Annual Burden: 658 hours.

Estimated Average Burden Time per Respondent: 15 minutes.

Frequency of Response: Once on occasion.

Estimated Number of Respondents: 2,634.

By direction of the Secretary.
Maribel Aponte,
VA PRA Clearance Officer,Office of Enterprise and Integration, Data Governance Analytics,Department of Veterans Affairs.

[FR Doc. 2024-08401 Filed 4-18-24; 8:45 am]

BILLING CODE 8320-01-P